ENVIRONMENTAL PROTECTION AGENCY

40 CFR Part 52

[EPA-R05-OAR-2010-0656; FRL-9232-2]

Approval and Promulgation of Air Quality Implementation Plans; Ohio; Ohio Portion of the Cincinnati-Hamilton Area; 8-Hour Ozone Maintenance Plan

AGENCY: Environmental Protection Agency.

ACTION: Direct final rule.

SUMMARY: EPA is approving a revision to the maintenance plan for the Ohio portion of the Cincinnati-Hamilton, OH-KY-IN 8-hour ozone area. The Cincinnati-Hamilton area includes Butler, Clermont, Clinton, Hamilton, and Warren Counties in Ohio, Lawrenceburg Township in Dearborn County, Indiana, and Boone, Campbell, and Kenton Counties in Kentucky. The Ohio Environmental Protection Agency (Ohio EPA) submitted a maintenance plan revision on July 6, 2010. The submittal contained revisions to 2015 and 2020 NOX point source emissions projections for Butler County to reflect modifications at a major source that will occur during the maintenance period.

DATES: This direct final rule will be effective January 28, 2011, unless EPA receives adverse comments by December 29, 2010. If adverse comments are received, EPA will publish a timely withdrawal of the direct final rule in the Federal Register informing the public that the rule will not take effect.

ADDRESSES: Submit your comments, identified by Docket ID No. EPA-R05-OAR-2010-0656, by one of the following methods:

1. http://www.regulations.gov: Follow the on-line instructions for submitting comments.

2. E-mail: mooney.john@epa.gov.

3. Fax: (312) 692-2551.

4. Mail: John M. Mooney, Chief, Attainment Planning and Maintenance Section, Air Programs Branch (AR-18J), U.S. Environmental Protection Agency, 77 West Jackson Boulevard, Chicago, Illinois 60604.

5. Hand Delivery: John M. Mooney, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0656. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Kathleen D'Agostino, Environmental Engineer, at (312) 886-1767 before visiting the Region 5 office.

FOR FURTHER INFORMATION CONTACT: Kathleen D'Agostino, Environmental Engineer, Attainment Planning and Maintenance Section, Air Programs Branch (AR-18J), Environmental Protection Agency, Region 5, 77 West Jackson Boulevard, Chicago, Illinois 60604, (312) 886-1767, dagostino.kathleen@epa.gov.

SUPPLEMENTARY INFORMATION: Throughout this document whenever “we,” “us,” or “our” is used, we mean EPA. This supplementary information section is arranged as follows:

I. What is the background for this action?

II. What revisions are being made to the maintenance plan?

III. What action is EPA taking?

IV. Statutory and Executive Order Reviews

I. What is the background for this action?

On May 11, 2010 (75 FR 26118), EPA redesignated the Ohio and Indiana portions of the Cincinnati-Hamilton area to attainment for the 1997 8-hour ozone National Ambient Air Quality Standard (NAAQS). At that time, EPA also approved, as a revision to the Ohio and Indiana State Implementation Plans (SIP), the States' plans for maintaining the 8-hour ozone NAAQS through 2020 in the area.

The Ohio and Indiana plans demonstrated maintenance of the 8-hour ozone standard through 2020 by showing that current and future emissions of VOC and NOX for the Cincinnati-Hamilton area remain at or below attainment year emission levels. The Cincinnati-Hamilton area attained the 8-hour ozone NAAQS during the 2007-2009 time period. For attainment emission levels, Ohio and Indiana used 2008 inventories. Emissions inventory projections for the years 2015 and 2020 were used to demonstrate maintenance.

As part of their maintenance plans, the States elected to include a “safety margin” for the area. A “safety margin” is the difference between the attainment level of emissions (from all sources) and the projected level of emissions (from all sources) in the maintenance plan which continues to demonstrate attainment of the standard. For the Ohio and Indiana portion of the Cincinnati-Hamilton area, the emissions from point, area, nonroad, and mobile sources in 2008 equaled 144.22 tons per day (tpd) and 230.28 tpd of VOC and NOX, respectively. In the maintenance plans, Ohio and Indiana projected VOC and NOX emission levels for 2020 to be 117.70 tpd and 197.75 tpd, respectively. The SIP submissions demonstrated that the Cincinnati-Hamilton area will continue to maintain the standard with emissions at this level. The safety margin was calculated to be the difference between 2008 and 2020 emissions levels. The 2020 safety margin for VOC was 26.52 tpd (i.e., 144.22 tpd less 117.70). For NOX, the 2020 safety margin was 32.53 tpd. Using the same method of calculation, the 2015 safety margins for VOC and NOX were 23.40 tpd and 17.50 tpd, respectively. The safety margin, or a portion thereof, can be allocated to any of the source categories, as long as the total attainment level of emissions is maintained.

At the time the maintenance plan was approved, EPA also approved VOC and NOX Motor Vehicle Emissions Budgets (MVEBs) for 2015 and 2020 for the Ohio and Indiana portions of the Cincinnati-Hamilton area. The MVEBs requested by Ohio EPA and the Indiana Department of Environmental Management (IDEM) contained safety margins for mobile sources smaller than the allowable safety margins reflected in the total emissions for the Ohio and Indiana portions of the Cincinnati-Hamilton area. For VOC, mobile safety margins of 4.14 tpd and 3.76 tpd were included for 2015 and 2020, respectively. For NOX, mobile safety margins of 6.39 tpd and 4.49 tpd were included for 2015 and 2020, respectively.

II. What revisions are being made to the maintenance plan?

Ohio submitted revisions to 2015 and 2020 NOX point source emissions projections for Butler County to reflect modifications at a major source which will occur during the maintenance period. These revised projections show an increase of 1.31 tons per day (tpd) of NOX in both 2015 and 2020. As shown in Table 1, for the Ohio and Indiana portions of the Cincinnati-Hamilton area, 2015 and 2020 emissions remain below attainment levels.

Table 1—Comparison of 2008, 2015 and 2020 VOC and NOX Emissions for the Ohio and Indiana Portion of the Cincinnati-Hamilton Area (tpd)
| VOC: 2008 | VOC: 2015 | VOC: 2020 | VOC: Net change (2008-2015) | VOC: Net change (2008-2020) | NOX: 2008 | NOX: 2015 | NOX: 2020 | NOX: Net change (2008-2015) | NOX: Net change (2008-2020)
Point | 10.65 | 12.85 | 13.53 | 2.20 | 2.88 | 88.97 | 135.21 | 138.43 | 46.24 | 49.46
Area | 57.73 | 54.33 | 54.33 | −3.40 | −3.40 | 10.98 | 11.03 | 11.03 | 0.05 | 0.05
Onroad | 30.51 | 27.59 | 25.06 | −2.92 | −5.45 | 91.67 | 42.61 | 29.90 | −49.06 | −61.77
Nonroad | 45.33 | 26.05 | 24.78 | −19.28 | −20.55 | 38.66 | 25.24 | 19.70 | −13.42 | −18.96
Total | 144.22 | 120.82 | 117.70 | −23.40 | −26.52 | 230.28 | 214.09 | 199.06 | −16.19 | −31.22

For the Ohio and Indiana portion of the Cincinnati-Hamilton area, the NOX emissions from point, area, nonroad, and mobile sources in 2008 equaled 230.28 tpd. For 2015, projected NOX emission levels equal 214.09 tpd. The safety margin for NOX is calculated to be the difference between these amounts or, in this case, 16.19 tpd for 2015. For 2020, the NOX safety margin is 31.22 tpd. The portion of the NOX safety margins allocated to the onroad mobile source sector when the MVEBs were approved remains smaller than the revised allowable safety margins reflected in the total emissions for the Ohio and Indiana portion of the Cincinnati-Hamilton area. Because no changes were made to the VOC inventories, the safety margins remain unchanged.

III. What action is EPA taking?

EPA is approving a revision to the maintenance plan for the Ohio portion of the Cincinnati-Hamilton 8-hour ozone area. Changes were made to the 2015 and 2020 NOX point source emissions projections for Butler County to reflect modifications at a major source that will occur during the maintenance period.

We are publishing this action without prior proposal because we view this as a noncontroversial amendment and anticipate no adverse comments. However, in the proposed rules section of this Federal Register publication, we are publishing a separate document that will serve as the proposal to approve the State plan if relevant adverse written comments are filed. This rule will be effective January 28, 2011 without further notice unless we receive relevant adverse written comments by December 29, 2010. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective January 28, 2011.

IV. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 28, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: November 15, 2010.
Susan Hedman,
Regional Administrator, Region 5.

40 CFR part 52 is amended as follows:

PART 52—[AMENDED]

1. The authority citation for part 52 continues to read as follows:

Authority: 42 U.S.C. 7401 et seq.

Subpart KK—Ohio

2. Section 52.1885 is amended by adding paragraph (ff)(11) to read as follows:

§ 52.1885 Control strategy: Ozone.

* * * * *

(ff) * * *

(11) Approval—On July 6, 2010, the Ohio Environmental Protection Agency submitted a request to revise the maintenance plan for the Ohio portion of the Cincinnati-Hamilton, OH-KY-IN 8-hour ozone area. The submittal revises 2015 and 2020 NOX point source emissions projections for Butler County.

* * * * *

[FR Doc. 2010-29784 Filed 11-26-10; 8:45 am]

BILLING CODE 6560-50-P